DEPARTMENT OF JUSTICE

Notice of Lodging of Proposed Consent Decree Under the Comprehensive Environmental Response, Compensation, and Liability Act

On September 29, 2020, the Department of Justice lodged a proposed Consent Decree with the United States District Court for the Western District of North Carolina in the lawsuit entitled United States v. Chemtronics, Inc. and Northrop Grumman Systems Corp., Civil Action No. 1:20-cv-00272.

The Consent Decree resolves the Untied States' claims set forth in the Complaint against Chemtronics, Inc. (“Chemtronics”) and Northrop Grumman Systems Corp. (“NGSC”) for injunctive relief and cost recovery under Sections 106 and 107(a) of the Comprehensive Environmental Response, Compensation, and Liability Act (“CERCLA”) relating to the release or threatened release of hazardous substances into the environment, and for performance of response actions under Section 7003 of the Resource Conservation and Recovery Act (“RCRA”) relating to the handling, storage, treatment, transportation, or disposal of solid and/or hazardous wastes at or from the Chemtronics Superfund Site (the “Site”), located in the community of Swannanoa, in Buncombe County, North Carolina. Under the terms of the proposed Consent Decree, Defendants will reimburse $255,348.51 of the costs incurred by the United States Environmental Protection Agency (“EPA”). Defendants also will reimburse EPA for its future responses at the Site and will perform the work set forth in the second amendment to the 1988 Record of Decision issued by EPA on September 29, 2016.

The publication of this notice opens a period for public comment on the Consent Decree. Comments should be addressed to the Assistant Attorney General, Environment and Natural Resources Division, and should refer to United States v. Chemtronics, Inc. and Northrop Grumman Systems Corp., D.J. Ref. No. 90-11-2-09498/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $10.50 (25 cents per page reproduction cost) payable to the United States Treasury. The document does not contain the exhibits and signature pages.

Lori Jonas,
Assistant Section Chief, Environmental Enforcement Section, Environment and Natural Resources Division.

[FR Doc. 2020-21978 Filed 10-2-20; 8:45 am]

BILLING CODE 4410-15-P